FEDERAL COMMUNICATIONS COMMISSION

47 CFR Part 73

[DA 02-3066; MB Docket No. 02-352, RM-10602]

Radio Broadcasting Services; Glenville, NC

AGENCY: Federal Communications Commission.

ACTION: Proposed rule.

SUMMARY: The Commission requests comments on a petition filed by Glenville Radio Broadcasters proposing the allotment of Channel 289A at Glenville, North Carolina, as the community's first local aural transmission service. Channel 289A can be allotted to Glenville in compliance with the Commission's minimum distance separation requirements with a site restriction of 1.5 kilometers (.93 miles) west to avoid a short-spacing to the licensed site of Station WZNY(FM), Channel 289C, Augusta, Georgia. The coordinates for Channel 289A are 35-09-38 North Latitude and 83-07-28 West Longitude.

DATES: Comments must be filed on or before December 30, 2002, and reply comments on or before January 14, 2002.

ADDRESSES: Federal Communications Commission, Washington, DC 20054.

FOR FURTHER INFORMATION CONTACT: Sharon P. McDonald, Media Bureau, (202) 418-2180.

SUPPLEMENTARY INFORMATION: This is a synopsis of the Commission's Notice of Proposed Rule Making, MM Docket No. 02-352, adopted October 30, 2002, and released November 8, 2002. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under North Carolina, is amended by adding Glenville, Channel 289A.

Federal Communications Commission.
John A. Karousos,
Assistant Chief, Audio Division, Media Bureau.

[FR Doc. 02-30510 Filed 12-2-02; 8:45 am]

BILLING CODE 6712-01-P